DEPARTMENT OF AGRICULTURE

Food Safety and Inspection Service

[Docket No. FSIS-2013-0012]

Codex Alimentarius Commission: Codex Committee on Pesticide Residues (CCPR)

AGENCY: Office of the Under Secretary for Food Safety, USDA.

ACTION: Notice of public meeting and request for comments.

SUMMARY: The Office of the Under Secretary for Food Safety, U.S. Department of Agriculture (USDA), and the U.S. Environmental Protection Agency (EPA) are sponsoring a public meeting on March 28, 2013. The objective of the public meeting is to provide information and receive public comments on agenda items and draft United States positions that will be discussed at the 45th Session of the Codex Committee on Pesticide Residues (CCPR) of the Codex Alimentarius Commission (Codex), which take place in Beijing, People's Republic of China, May 6-13, 2013. The Under Secretary for Food Safety and the Environmental Protection Agency recognize the importance of providing interested parties the opportunity to obtain background information on the 45th session of CCPR and to address items on the agenda.

DATES: The public meeting is scheduled for Thursday, March 28, 2013 from 1:00-4:00 p.m.

ADDRESSES: The public meeting will take place at Environmental Protection Agency, Room S-7100, One Potomac Yard South; 2777 South Crystal Drive, Arlington, VA, 22202. Documents related to the 45th Session of CCPR will be accessible via the World Wide Web at the following address: http://www.codexalimentarius.org/meetings-reports/en/,

Lois Rossi, U.S. Delegate to the 45th session of the CCPR, the Environmental Protection Agency and the U.S. Department of Agriculture invite interested parties to submit their comments electronically to the following email address: Rossi.Lois@epa.gov.

Call In Number:

If you wish to participate in the public meeting for the 45th session of the CCPR by conference call, please use the call in numbers and participant codes listed below:

United States Call in Number: 1-866-299-3188.

International Call in Number: 1-706-758-1822.

Participant Code: 7033056463.

For Further Information About the 45th Session of the CCPR Contact: Lois Rossi, Director, Registration Division, Office of Pesticide Programs, U.S. Environmental Protection Agency, Ariel Rios Building, 1200 Pennsylvania Avenue NW., Washington, DC 20460, Tel: (703) 305-5447, Fax: (703) 305-6920; Email: Rossi.Lois@epa.gov.

For Further Information About the Public Meeting Contact: Doreen Chen-Moulec, U.S. Codex Office, 1400 Independence Avenue SW., Room 4861, Washington, DC 20250, Tel: (202) 205-7760, Fax: (202) 720-3157, Email: Doreen.Chen-Moulec@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Codex Committee on Pesticide Residues is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides, in specific food items or groups of food.

The Committee is hosted by China.

Issues To Be Discussed at the Public Meeting

The following items on the Agenda for the 45th Session of CCPR will be discussed during the public meeting:

• Matters referred to the committee by the Codex Alimentarius Commission and other subsidiary bodies

• Matters of interest arising from FAO and WHO

• Matters of interest arising from other international organizations

• Report on items of general consideration by the 2012 Joint FAO/WHO Meeting on Pesticide Residues (JMPR)

• Report on 2012 JMPR responses to specific concerns raised by CCPR

• Draft and proposed draft maximum residue limits (MRLs) for Pesticides in Food and Feed at Steps 7 and 4

• Discussion paper on principles and guidance for the use of the concept of proportionality to estimate maximum residue limits for pesticides

• Discussion paper on the review of the commodity groups in the database for maximum residue limits for pesticides to determine the need for revision of relevant group MRLs (revised fruit commodity groups of the Classification of Foods and Animal Feeds)

• Draft revision of the Classification of Food and Animal Feeds at Step 7: Selected vegetable commodity groups

• Proposed draft revision of the Classification of Foods and Animal Feeds at Step 4: Other selected commodity groups

• Proposed draft Table 2—Examples of selection of representative commodities for selected vegetable commodity groups (Item 7a) and other selected commodity groups (Item 7b) (for inclusion in the Principles and Guidance for the Selection of Representative Commodities for the Extrapolation of Maximum Residue Limits for Pesticides to Commodity Groups) at Step 4

• Discussion Paper on guidance to facilitate the establishment of MRLs for pesticides for minor crops and specialty crops

• Discussion paper on performance criteria for suitability assessment of methods of analysis for pesticide residues

• Revision of the Risk Analysis Principles applied by the Codex Committee on Pesticide Residues

• Establishment of Codex Priority Lists of Pesticides

• Other Business and Future work

Each issue listed will be fully described in documents distributed, or to be distributed, by the Secretariat prior to the Meeting. Members of the public may access or request copies of these documents (see ADDRESSES).

Public Meeting

At the March 28, 2013, public meeting, draft U.S. positions on the agenda items will be described and discussed, and attendees will have the opportunity to pose questions and offer comments. Written comments may be offered at the meeting or sent to Lois Rossi, U.S. Delegate for the 45th session of the CCPR (see ADDRESSES). Written comments should state that they relate to activities of the 45th session of the CCPR.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an email subscription service which provides automatic and customized access to selected food safety news and information. This service is available at http://www.fsis.usda.gov/news_and_events/email_subscription/. Options range from recalls to export information to regulations, directives and notices. Customers can add or delete subscriptions themselves and have the option to password protect their account.

Done at Washington, DC on: March 8, 2013.
Mary Frances Lowe,
U.S. Manager for Codex Alimentarius.

[FR Doc. 2013-05840 Filed 3-13-13; 8:45 am]

BILLING CODE 3410-DM-P